DEPARTMENT OF ENERGY

Federal Energy Regulatory Commission

[Project No. 10482-122; Project No. 10481-069; Project No. 9690-115]

Notice of Availability of Environmental Assessment: Eagle Creek Hydro Power, LLC; Eagle Creek Water Resources, LLC; Eagle Creek Land Resources, LLC

In accordance with the National Environmental Policy Act of 1969 and the Federal Energy Regulatory Commission's (Commission) regulations, 18 CFR part 380, the Office of Energy Projects has reviewed the joint application for a new license for each of the “Mongaup River Projects” consisting of the Swinging Bridge Hydroelectric Project (Swinging Bridge Project), Mongaup Falls Hydroelectric Project (Mongaup Falls Project), and Rio Hydroelectric Project (Rio Project). The Swinging Bridge Project is located on the Mongaup River and Black Lake Creek in Sullivan County, New York. The Mongaup Falls Project is located on the Mongaup River and Black Brook in Sullivan County, New York. The Rio Project is located on the Mongaup River in Sullivan and Orange Counties, New York. The projects do not occupy any federal land.

The EA contains staff's analysis of the potential environmental effects of the Mongaup River Projects and concludes that licensing the projects, with appropriate environmental measures, would not constitute a major federal action that would significantly affect the quality of the human environment.

The number of pages in the EA exceeds the page limits set forth in the Council on Environmental Quality's July 16, 2020 final rule, Update to the Regulations Implementing the Procedural Provisions of the National Environmental Policy Act (85 FR 43304). Noting the scope and complexity of the proposed action and action alternatives, the Director of the Office of Energy Projects, as our senior agency official, has authorized this page limit exceedance for the EA.

The Commission provides all interested persons with an opportunity to view and/or print the EA via the internet through the Commission's Home Page (http://www.ferc.gov/) using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

Any comments should be filed within 45 days from the date of this notice.

The Commission strongly encourages electronic filings. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number (i.e., P-10482-122, P-10481-069, and/or P-9690-115).

For further information, contact Nicholas Ettema at nicholas.ettema@ferc.gov or (312) 596-4447.

Dated: September 28, 2022.
Kimberly D. Bose,
Secretary.

[FR Doc. 2022-21474 Filed 10-3-22; 8:45 am]

BILLING CODE 6717-01-P